FEDERAL MARITIME COMMISSION

Agency Information Collection Activities: Submission for OMB Review; Comment Request

AGENCY: Federal Maritime Commission.

ACTION: Final notice of submission for OMB review.

SUMMARY: In accordance with the Paperwork Reduction Act of 1995, the Federal Maritime Commission (Commission) hereby gives notice that it has submitted to the Office of Management and Budget (OMB) a request for an extension with change of the existing collection requirements related to licensing of ocean transportation intermediaries.

DATES: Written comments must be submitted on or before December 7, 2020.

ADDRESSES: Comments should be addressed to: Office of Information and Regulatory Affairs, Office of Management and Budget, Attention: Desk Officer for Federal Maritime Commission, 725—17th Street NW, Washington, DC 20503, OIRA_Submission@OMB.EOP.GOV, Fax: (202) 395-5806, and to: Karen V. Gregory, Managing Director, Office of the Managing Director, Federal Maritime Commission, omd@fmc.gov.

Please reference the information collection's title and OMB approved number that can be found below in your comments.

FOR FURTHER INFORMATION CONTACT: Copies of the submission(s) may be obtained by contacting Donna Lee at 202-523-5800 or email: omd@fmc.gov.

SUPPLEMENTARY INFORMATION: Pursuant to the Paperwork Reduction Act of 1995 (44 U.S.C. 3501 et seq.), the Commission invites the general public and other Federal agencies to comment on the proposed information collection. On July 14, 2020, the Commission published a notice and request for comment in the Federal Register (85 FR 42400) regarding the agency's request to OMB for an extension for an information collection as required by the Paperwork Reduction Act of 1995. The Commission received no comments on the request for extension. The Commission has submitted the described information collection to OMB for approval.

In response to this notice, comments and suggestions should address one or more of the following points: (1) The necessity and utility of the proposed information collection for the proper performance of the agency's functions; (2) the accuracy of the estimated burden; (3) ways to enhance the quality, utility, and clarity of the information to be collected; and (4) the use of automated collection techniques or other forms of information technology to minimize the information collection burden.

Information Collection Open for Comment

Title: 46 CFR part 515—Licensing, Registration, Financial Responsibility Requirements and General Duties for Ocean Transportation Intermediaries.

OMB Approval Number: 3072-0018 (December 31, 2022).

Abstract: The Shipping Act of 1984 (the Act), 46 U.S.C. 40101-41309, as amended, provides that no person in the United States may advertise, hold oneself out, or act as an ocean transportation intermediary (OTI) unless that person holds a license issued by the Commission. The Commission shall issue an OTI license to any person that the Commission determines to be qualified by experience and character to act as an OTI. Further, no person may act as an OTI unless that person furnishes a bond, proof of insurance, or other surety in a form and amount determined by the Commission to insure financial responsibility. The Commission has implemented the Act's OTI requirements in regulations contained in 46 CFR part 515, including financial responsibility Forms FMC-48, FMC-67, FMC-68, and FMC-69, Optional Rider Forms FMC-48A and FMC-69A, its related license application Form FMC-18, and the related foreign-based unlicensed NVOCC registration/renewal Form FMC-65.

Type of Request: Extension with change.

Proposed Changes: Through a Final Rule published in Docket No. 19-06, the Commission revised its regulations to implement the provisions of the Frank LoBiondo Coast Guard Authorization Act of 2018. The revisions included amendments to the regulations governing OTIs to reflect statutory changes to the types of persons that are required to be licensed and maintain a bond, insurance, or other surety. The Final Rule also revised the regulations governing the general duties of non-vessel-operating common carriers (NVOCCs) to reflect amendments to several prohibited acts. In particular, the Final Rule eliminated the requirement that registered NVOCCs use only licensed OTIs as agents in the United States. Consistent with this change, the Commission proposes to remove that portion of the certification in the Form FMC-65 that requires applicants to certify that they will only use licensed OTIs for any OTI activities performed on their behalf in the United States.

Purpose: The Commission uses information obtained under this part and through Form FMC-18 to determine the qualifications of OTIs and their compliance with the Act and regulations, and to enable the Commission to discharge its duties under the Act by ensuring that OTIs maintain acceptable evidence of financial responsibility. If the collection of information were not conducted, there would be no basis upon which the Commission could determine if applicants are qualified for licensing. The Commission would also not be able to effectively assess the compliance of foreign-based, unlicensed NVOCCs without the required registration information.

Frequency: This information is collected when applicants apply for a license or submit a registration, complete the triennial renewal, or when existing licensees or registrants change their application forms.

Type of Respondents: The types of respondents are persons desiring to obtain or maintain a license or registration to act as an OTI. Under the Act, OTIs may be either an ocean freight forwarder, a non-vessel-operating common carrier, or both.

Number of Annual Respondents: The Commission estimates a potential annual respondent universe of 6,475 entities.

Estimated Time per Response: The time per response to complete application Form FMC-18 averages 2 hours and to complete the triennial renewal is 10 minutes. The time to complete a financial responsibility form averages 20 minutes. The time to complete Form FMC-65 to submit or renew a registration as a foreign-based, unlicensed NVOCC averages 15 minutes.

Total Annual Burden: The Commission estimates the total annual burden at 3,918 hours.

Rachel Dickon,
Secretary.

[FR Doc. 2020-24627 Filed 11-5-20; 8:45 am]

BILLING CODE 6730-02-P